DEPARTMENT OF COMMERCE

International Trade Administration

[A-549-502]

Circular Welded Carbon Steel Pipes and Tubes From Thailand: Preliminary Results and Rescission, in Part, of Antidumping Duty Administrative Review; 2022-2023

AGENCY: Enforcement and Compliance, International Trade Administration, Department of Commerce.

SUMMARY: The U.S. Department of Commerce (Commerce) preliminarily finds that certain producers/exporters subject to this administrative review did not make sales of subject merchandise at less than normal value (NV) during the period of review (POR) March 1, 2022, through February 28, 2023. Commerce is also rescinding the review, in part, with respect to 28 respondents. We invite interested parties to comment on these preliminary results.

DATES: Applicable March 6, 2024.

FOR FURTHER INFORMATION CONTACT: Jacob Keller or Thomas Schauer, AD/CVD Operations, Office I, Enforcement and Compliance, International Trade Administration, U.S. Department of Commerce, 1401 Constitution Avenue NW, Washington, DC 20230; telephone: (202) 482-4849 or (202) 482-0410, respectively.

SUPPLEMENTARY INFORMATION:

Background

On March 11, 1986, Commerce published in the Federal Register the antidumping duty order on circular welded carbon steel pipes and tubes (CWP) from Thailand.¹ On March 2, 2023, Commerce published in the Federal Register the notice of initiation of the administrative review of the Order.² On June 5, 2023, Commerce selected Saha Thai Steel Pipe Public Co., Ltd. (Saha Thai) and Thai Premium Pipe Co. Ltd. (TPP) for individual examination as the mandatory respondents in this administrative review.³ On January 16, 2024, Commerce notified interested parties of our intent to rescind this administrative review with respect to the 28 companies that have no reviewable suspended entries.⁴ On November 13, 2023, Commerce extended the time limit for these preliminary results to March 5, 2024.⁵ For a complete description of the events that occurred since the initiation of this review, see the Preliminary Decision Memorandum.⁶

¹ See Antidumping Duty Order; Circular Welded Carbon Steel Pipes and Tubes from Thailand, 51 FR 8341 (March 11, 1986) (Order).

² See Initiation of Antidumping and Countervailing Duty Administrative Reviews, 88 FR 29881, 29884 (May 9, 2023).

³ See Memorandum, “Respondent Selection,” dated June 5, 2023.

⁴ See Memorandum, “Intent to Partially Rescind Review,” dated January 16, 2024 (Intent to Rescind Memorandum).

⁵ See Memorandum, “Extension of Deadline for Preliminary Results of the Antidumping Duty Administrative Review; 2021-2022,” dated November 7, 2022.

⁶ See Memorandum, “Decision Memorandum for the Preliminary Results of the Administrative Review and Rescission, in Part, of the Antidumping Duty Order on Circular Welded Carbon Steel Pipes and Tubes from Thailand; 2022-2023,” dated concurrently with, and hereby adopted by, this notice (Preliminary Decision Memorandum).

A list of topics discussed in the Preliminary Decision Memorandum is attached in Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Scope of the Order

The products covered by the Order are CWP from Thailand. For a complete description of the scope of this Order, see the Preliminary Decision Memorandum.

Rescission of Review, In Part

Pursuant to 19 CFR 351.213(d)(3), Commerce will rescind an administrative review when there are no reviewable suspended entries. Based on our analysis of U.S. Customs and Border Protection (CBP) information, we preliminarily determine that 28 companies had no entries of subject merchandise during the POR. On January 16, 2024, we notified parties of our intent to rescind this administrative review with respect to the 28 companies listed in Appendix II that had no reviewable suspended entries during the POR.⁷ No parties commented on our Intent to Rescind Memorandum. As a result, we are rescinding this review, in part, with respect to the 28 companies listed in Appendix II of this notice.

⁷ See Intent to Rescind Memorandum.

Methodology

Commerce is conducting this review in accordance with section 751(a) of the Tariff Act of 1930, as amended (the Act). We calculated export price and NV in accordance with sections 772 and 773 of the Act, respectively. For a complete description of the methodology underlying our conclusions, see the Preliminary Decision Memorandum.

Preliminary Results of Review

Commerce preliminarily determines that the following estimated weighted-average dumping margins exist for the period March 1, 2022, through February 28, 2023:

Producer or exporter | Weighted- average dumping margin (percent)
Saha Thai Steel Pipe Public Co., Ltd. (also known as Saha Thai Steel Pipe (Public) Company, Ltd.) | 0.00
Thai Premium Pipe Co. Ltd. | 0.00

Assessment Rates

Upon completion of the final results, Commerce shall determine and CBP shall assess, antidumping duties on all appropriate entries covered by this review.⁸ If Saha Thai or TPP's weighted-average dumping margin is not zero or de minimis (i.e., less than 0.50 percent) in the final results of this review, we will calculate importer-specific ad valorem assessment rates on the basis of the ratio of the total amount of dumping calculated for each importer's examined sales and the total entered value of those same sales in accordance with 19 CFR 351.212(b)(1).⁹ If either the respondent's weighted-average dumping margin or an importer-specific assessment rate is zero or de minimis in the final results of review, we intend to instruct CBP not to liquidate relevant entries without regards to antidumping duties.

⁸ See 19 CFR 351.212(b)(1).

⁹ See Antidumping Proceedings: Calculation of the Weighted-Average Dumping Margin and Assessment Rate in Certain Antidumping Proceedings: Final Modification, 77 FR 8101, 8103 (February 14, 2012).

For entries of subject merchandise during the POR produced by Saha Thai or TPP for which they did not know that the merchandise was destined to the United States, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

For the companies for which this review is rescinded with these preliminary results, we will instruct CBP to assess antidumping duties on all appropriate entries at a rate equal to the cash deposit of estimated antidumping duties required at the time of entry, or withdrawal from warehouse, for consumption, during the period January 1, 2022, through December 31, 2022, in accordance with 19 CFR 351.212(c)(l)(i). Commerce intends to issue assessment instructions to CBP no earlier than 35 days after the date of publication of the final results of this review in the Federal Register. If a timely summons is filed at the U.S. Court of International Trade, the assessment instructions will direct CBP not to liquidate relevant entries until the time for parties to file a request for a statutory injunction has expired, i.e., within 90 days of publication.

The final results of this administrative review shall be the basis for the assessment of antidumping duties on entries of merchandise covered by the final results of this review and for future deposits of estimated duties, where applicable.¹¹

¹¹ See section 751(a)(2)(C) of the Act; and 19 CFR 351.212(b).

Cash Deposit Requirements

The following cash deposit requirements will be effective upon publication in the Federal Register of the notice of final results of administrative review for all shipments of CWP from Thailand entered, or withdrawn from warehouse, for consumption on or after the date of publication as provided for by section 751(a)(2)(C) of the Act: (1) the cash deposit rate for Saha Thai and TPP will be equal to the weighted-average dumping margin established in the final results of this review (except, if that rate is de minimis within the meaning of 19 CFR 351.106(c)(1), then the cash deposit rate will be zero); (2) for merchandise exported by a company not covered in this review but covered in a prior completed segment of the proceeding, the cash deposit rate will continue to be the company-specific rate published in the completed segment for the most recent period; (3) if the exporter is not a firm covered in this review or another completed segment of this proceeding, but the producer is, then the cash deposit rate will be the company-specific rate established for the completed segment for the most recent period for the producer of the merchandise; and (4) the cash deposit rate for all other producers or exporters will continue to be 15.67 percent, the all-others rate established in the less-than-fair-value investigation.¹² These cash deposit requirements, when imposed, shall remain in effect until further notice.

¹² See Order.

Disclosure and Public Comment

We intend to disclose the calculations performed for these preliminary results to interested parties within five days after the date of publication of this notice.¹³ Pursuant to 19 CFR 351.309(c)(1)(ii), interested parties may submit case briefs to Commerce no later than 30 days after the date of publication of this notice. Rebuttal briefs, limited to issues raised in the case briefs, may be filed not later than five days after the date for filing case briefs.¹⁴ Interested parties who submit case or rebuttal briefs in this administrative review must submit: (1) a table of contents listing each issue; and (2) a table of authorities.¹⁵

¹³ See 19 CFR 351.224(b).

¹⁴ See 19 CFR 351.309(d); see also Administrative Protective Order, Service, and Other Procedures in Antidumping and Countervailing Duty Proceedings, 88 FR 67069, 67077 (September 29, 2023) (APO and Final Service Rule).

¹⁵ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁶ Further, we request that interested parties limit their executive summary of each issue to no more than 450 words, not including citations. We intend to use the executive summaries as the basis of the comment summaries included in the issues and decision memorandum that will accompany the final results in this administrative review. We request that interested parties include footnotes for relevant citations in the executive summary of each issue.

¹⁶ We use the term “issue” here to describe an argument that Commerce would normally address in a comment of the Issues and Decision Memorandum.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the case and rebuttal briefs.

All submissions, including case and rebuttal briefs, as well as hearing requests, should be filed using ACCESS.¹⁷ An electronically filed document must be received successfully in its entirety by ACCESS by 5:00 p.m. Eastern Time on the established deadline. Note that Commerce has amended certain of its requirements pertaining to the service of documents in 19 CFR 351.303(f).¹⁸

¹⁷ See 19 CFR 351.303.

¹⁸ See APO and Final Service Rule.

Final Results of Review

Unless otherwise extended, Commerce intends to issue the final results of this administrative review, including the results of its analysis of the issues raised in any written briefs, not later than 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these preliminary results in accordance with sections 751(a)(1) and 777(i) of the Act, and 19 CFR 351.213(h) and 351.221(b)(4).

Dated: February 29, 2024.
Ryan Majerus,
Deputy Assistant Secretary for Policy and Negotiations, performing the non-exclusive functions and duties of the Assistant Secretary for Enforcement and Compliance.

Appendix I

List of Topics Discussed in the Preliminary Decision Memorandum

I. Summary

II. Background

III. Scope of the Order

IV. Partial Rescission of Administrative Review

V. Discussion of Methodology

VI. Currency Conversion

VII. Recommendation

Appendix II

Companies Rescinded From This Administrative Review

1. Apex International Logistics

2. Aquatec Maxcon Asia

3. Asian Unity Part Co., Ltd.

4. Better Steel Pipe Company Limited

5. Bis Pipe Fitting Industry Co., Ltd.

6. Blue Pipe Steel Center Co. Ltd.

7. Chuhatsu (Thailand) Co., Ltd.

8. CSE Technologies Co., Ltd.

9. Expeditors International (Bangkok)

10. Expeditors Ltd.

11. FS International (Thailand) Co., Ltd.

12. Kerry-Apex (Thailand) Co., Ltd.

13. K Line Logistics

14. Oil Steel Tube (Thailand) Co., Ltd.

15. Otto Ender Steel Structure Co., Ltd.

16. Pacific Pipe and Pump

17. Pacific Pipe Public Company Limited

18. Panalpina World Transport Ltd.

19. Polypipe Engineering Co., Ltd.

20. Schlumberger Overseas S.A.

21. Siam Fittings Co., Ltd.

22. Siam Steel Pipe Co., Ltd.

23. Sino Connections Logistics (Thailand) Co., Ltd.

24. Thai Malleable Iron and Steel

25. Thai Oil Group

26. Thai Oil Pipe Co., Ltd.

27. Vatana Phaisal Engineering Company

28. Visavakit Patana Corp., Ltd.

[FR Doc. 2024-04740 Filed 3-5-24; 8:45 am]

BILLING CODE 3510-DS-P